DEPARTMENT OF COMMERCE

National Oceanic and Atmospheric Administration

Proposed Information Collection; Comment Request; One Year Assessment of the Social and Economic Impacts of Hurricane Sandy on New Jersey and New York Commercial and Recreational Fishing Industries

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 25, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Lisa L. Colburn, (401) 782-3253 or lisa.l.colburn@noaa.gov.

SUPPLEMENTARY INFORMATION:

I. Abstract

This request is for a new information collection.

The Northeast Fisheries Science Center's Social Sciences Branch seeks to conduct a one year assessment of the social and economic impacts from Hurricane Sandy to the commercial and recreational fishing industries in New York and New Jersey. It seeks to collect data on the long term disruption and impediments to recovery of normal business practices to the commercial and recreational fishing industries. It seeks to collect data from commercial and for hire fishermen, marinas, fish dealers, bait and tackle stores, and other businesses dependent on the fishing industry for livelihood. The data will improve research and analysis of potential fishery management actions by understanding the long-term compounding effects of this natural disaster on communities most dependent on fishing. It is consistent with the Magnuson-Stevens Fishery Conservation and Management Act.

II. Method of Collection

This information will be collected by in person, face-to-face, mail or telephone interviews.

III. Data

OMB Control Number: None.

Form Number: None.

Type of Review: Regular submission (new information collection).

Affected Public: Business or other for-profit organizations; individuals.

Estimated Number of Respondents: 1,000.

Estimated Time per Response: 20 minutes.

Estimated Total Annual Burden Hours: 334.

Estimated Total Annual Cost to Public: $0 in capital costs and recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 21, 2013.
Gwellnar Banks,
Management Analyst, Office of the Chief Information Officer.

[FR Doc. 2013-20682 Filed 8-23-13; 8:45 am]

BILLING CODE 3510-22-P